FEDERAL RESERVE SYSTEM

Formations of, Acquisitions by, and Mergers of Bank Holding Companies; Correction

This notice corrects a notice (FR Doc. 00-25132) published on page 58771 of the issue for Monday, October 2, 2000.

Under the Federal Reserve Bank of Kansas City heading, the entry for Sturm Financial Group, Inc., Denver, Colorado, is revised to read as follows:

A. Federal Reserve Bank of Kansas City (D. Michael Manies, Assistant Vice President) 925 Grand Avenue, Kansas City, Missouri 64198-0001:

1. Sturm Financial Group, Inc., Denver, Colorado; to become a bank holding company by acquiring 100 percent of the voting shares of Sturm Banks of Colorado, Inc., Denver, Colorado, and thereby indirectly acquire Bank of Cherry Creek N.A., Boulder, Colorado, Bank of Cherry Creek N.A., Denver, Colorado, Mesa National Bank, Grand Junction, Colorado, Western National Bank of Colorado, Colorado Springs, Colorado; Sturm Banks of Wyoming, Inc., Denver, Colorado, and thereby indirectly acquire American National Bank of Cheyenne, Cheyenne, Wyoming, Wyoming Bank & Trust Company N.A., Buffalo, Wyoming, Stockgrowers State Bank N.A., Worland, Wyoming, Bank of Laramie N.A., Laramie, Wyoming; and Sturm Banks of Kansas City, Inc., Denver, Colorado, and thereby indirectly acquire Premier Bank, Lenexa, Kansas.

In connection with this application, Applicant also has applied to acquire Community First Data Services, Inc., Cheyenne, Wyoming, and thereby engage in data processing activities, pursuant to 225.28(b)(14) of Regulation Y.

In addition to this application, Sturm Financial Group, Inc., Denver, Colorado and Sturm Banks of Kansas City, Inc., Denver, Colorado also have applied to engage in lending activities, pursuant to 225.28(b)(1) of Regulation Y.

Comments on this application must be received by October 26, 2000.

Board of Governors of the Federal Reserve System, October 11, 2000.
Robert deV. Frierson,
Associate Secretary of the Board.

[FR Doc. 00-26541 Filed 10-16-00; 8:45 am]

BILLING CODE 6210-01-P